DEPARTMENT OF TRANSPORTATION

Federal Aviation Administration

14 CFR Part 39

[Docket No. FAA-2005-21410; Directorate Identifier 2005-CE-31-AD]

RIN 2120-AA64

Airworthiness Directives; Raytheon Aircraft Company Model 390 Airplanes

AGENCY: Federal Aviation Administration (FAA), DOT.

ACTION: Notice of proposed rulemaking (NPRM).

SUMMARY: The FAA proposes to adopt a new airworthiness directive (AD) for certain Raytheon Aircraft Company (Raytheon) Model 390 airplanes. This proposed AD would require you to replace the rudder pedal arm assemblies used in the rudder control system with parts of improved design. This proposed AD results from reports of cracks found on the rudder pedal arm assemblies. We are issuing this proposed AD to prevent failure of the rudder pedal arm assemblies caused by fatigue cracks. This failure could lead to loss of rudder control, loss of nose gear steering, and loss of toe brakes on the side on which the failure occurs.

DATES: We must receive any comments on this proposed AD by August 19, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Raytheon Aircraft Company, 9709 E. Central, Wichita, Kansas 67201-0085; telephone: (800) 429-5372 or (316) 676-3140.

To view the comments to this proposed AD, go to http://dms.dot.gov. The docket number is FAA-2005-21410; Directorate Identifier 2005-CE-31-AD.

FOR FURTHER INFORMATION CONTACT: David Ostrodka, Aerospace Engineer, Wichita Aircraft Certification Office (ACO), FAA, 1801 Airport Road, Wichita, Kansas 67209; telephone: (316) 946-4129; facsimile: (316) 946-4107; e-mail: david.ostrodka@faa.gov.

SUPPLEMENTARY INFORMATION:

Comments Invited

How do I comment on this proposed AD? We invite you to submit any written relevant data, views, or arguments regarding this proposal. Send your comments to an address listed under ADDRESSES. Include the docket number, “FAA-2005-21410; Directorate Identifier 2005-CE-31-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-21410; Directorate Identifier 2005-CE-31-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? Raytheon received a report that, during ground maintenance operations, the pilot's outboard rudder pedal arm assembly cracked at the upper end of the arm.

While maneuvering the aircraft from a right turn to neutral with toe brake applied during an on-ground compass swing, the rudder pedal arm assembly cracked.

Further investigation revealed another airplane with a crack on the copilot's outboard rudder pedal arm assembly.

Raytheon has determined that loading of the rudder pedals off the centerline of the rudder pedal arm assembly results in overload, which causes fatigue cracking of the rudder pedal arm assembly.

What is the potential impact if FAA took no action? If not prevented, cracks in the rudder pedal arm assembly could cause the rudder pedal arm assembly to fail. This failure could lead to loss of rudder control, loss of nose gear steering, and loss of toe brakes on the side on which the failure occurs.

Is there service information that applies to this subject? Raytheon Aircraft Company has issued Mandatory Service Bulletin SB 27-3691, Rev. 1, Revised February 2005.

What are the provisions of this service information? The service bulletin includes procedures for replacing rudder pedal arm assemblies, part numbers (P/Ns) 390-524350-0001, 390-524350-0002, 390-524351-0001, and 390-524351-0002 with improved design parts, P/Ns 390-524400-0001, 390-524400-0002, 390-524401-0003, and 390-524401-0004.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 98 airplanes in the U.S. registry.

What would be the cost impact of this proposed AD on owners/operators of the affected airplanes? We estimate the following costs to do the proposed modification:

Labor cost | Parts cost | Total cost per airplane | Total cost on U.S. operators
8 work hours × $65 per hour = $520 | $1,165 | $1,685 | $1,685 × 98 = $165,130

Raytheon will provide warranty credit for parts and labor to extent stated in the service information. Therefore, the proposed actions, if done following the service information, would have little or no cost to the owners/operators of the affected airplanes.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21410; Directorate Identifier 2005-CE-31-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. FAA-2005-21410; Directorate Identifier 2005-CE-31-AD.

When Is the Last Date I Can Submit Comments on This Proposed AD?

(a) We must receive comments on this proposed airworthiness directive (AD) by August 19, 2005.

What Other ADs Are Affected By This Action?

(b) None.

What Airplanes Are Affected by This AD?

(c) This AD affects the following serial-numbered Model 390 airplanes that are certificated in any category:

Serial Numbers
(1) RB-1.
(2) RB-4 through RB-36.
(3) RB-38 through RB-41.
(4) RB-43 through RB-67.
(5) RB-69 through RB-80.
(6) RB-82 through RB-84.
(7) RB-87 through RB-94.
(8) RB-96 through RB-101.
(9) RB-103 through RB-115.
(10) RB-117 through RB-119.
(11) RB-121.

What Is the Unsafe Condition Presented in This AD?

(d) This AD is the result of reports of cracks found on the rudder pedal arm assemblies used in the rudder control system. The actions specified in this AD are intended to prevent failure of the rudder pedal arm assemblies caused by fatigue cracks. This failure could lead to loss of rudder control, loss of nose gear steering, and loss of toe brakes on the side on which the failure occurs.

What Must I Do To Address This Problem?

(e) To address this problem, you must do the following:

Actions | Compliance | Procedures
(1) Replace rudder pedal arm assemblies, part numbers (P/Ns) 390-524350-0001, 390-524350-0002, 390-524351-0001, and 390-524351-0002 with improved design parts, P/Ns 390-524400-0001, 390-524400-0002, 390-524401-0003, and 390-524401-0004 | Upon accumulating 300 hours time-in-service (TIS) or within 100 hours TIS after the effective date of this AD, whichever occurs later, unless already done | Follow Raytheon Aircraft Company Mandatory Service Bulletin, SB 27-3691, Rev. 1, Revised: February, 2005, and the applicable maintenance manual.
(2) Do not install rudder pedal arm assemblies, P/Ns 390-524350-0001, 390-524350-0002, 390-524351-0001, and 390-524351-0002 | As of the effective date of this AD

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact David Ostrodka, Aerospace Engineer, Wichita ACO, FAA, 1801 Airport Road, Wichita, Kansas 67209; telephone: (316) 946-4129; facsimile: (316)

946-4107; e-mail: david.ostrodka@faa.gov.

May I Get Copies of the Documents Referenced in This AD?

(g) To get copies of the documents referenced in this AD, contact Raytheon Aircraft Company, 9709 E. Central, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2005-21410; Directorate Identifier 2005-CE-31-AD.

Issued in Kansas City, Missouri, on June 14, 2005.
John Colomy,
Acting Manager, Small Airplane Directorate, Aircraft Certification Service.

[FR Doc. 05-12060 Filed 6-17-05; 8:45 am]

BILLING CODE 4910-13-P